DEPARTMENT OF TRANSPORTATION

Federal Aviation Administration

14 CFR Part 73

[Docket No. FAA-2005-22680; Airspace Docket No. 05-ASW-3]

RIN 2120-AA66

Establishment of Restricted Area 5601F; Fort Sill, OK

AGENCY: Federal Aviation Administration (FAA), DOT.

ACTION: Final rule.

SUMMARY: This action establishes Restricted Area 5601F (R-5601F) over Fort Sill, OK. The United States (U.S.) Army requested that the FAA take action to establish R-5601F to provide additional airspace needed to support new high angle air-to-ground training requirements for Air Force, Navy, and Marine aircraft operating over the Falcon Bombing Range and to enhance Fort Sill's ability to host joint training.

DATES: Effective Date: 0901 UTC, March 15, 2007.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On November 2, 2005, the FAA published in the Federal Register a notice of proposed rulemaking (NPRM) to establish R-5601F in response to a request from the U.S. Army (70 FR 66306). Interested parties were invited to participate in this rulemaking proceeding by submitting written comments on the proposal to the FAA. Five comments were received.

Discussion of Comments

The commenters included the Aircraft Owners and Pilots Association (AOPA), the Oklahoma Pilots Association (OPA), and three individuals. The following is a summary of those comments and the FAA's responses:

Three commenters expressed a concern that R-5601F would harm the Wichita Mountain Wildlife Refuge and Lake Latonka.

Response: The FAA disagrees that R-5601F would cause significant harm to these areas because R-5601F would be a narrow piece of airspace (typically less than 3-4 miles from north to south) and the Army agreed to restrict flight to 5,500 feet mean sea level and above, over the Wildlife Refuge, to mitigate adverse impacts. We also note that the Wildlife Manager of the Wichita Mountain Wildlife Refuge had no objections to the establishment of R-5601F as outlined in the draft environmental assessment that was later adopted.

Two commenters stated that R-5601F should not be designated as a restricted area because the activity would not constitute “a hazard to non-participating aircraft” as required by FAA Order 7400.2E.

Response: FAA Order 7400.2F, Procedures for Handling Airspace Matters (effective on February 16, 2006) supercedes FAA Order 7400.2E. Both versions specify that the purpose of a restricted area is to confine or segregate activities considered hazardous to nonparticipating aircraft. The FAA believes it is appropriate to designate the needed maneuvering area as a restricted area because the participating aircraft will be maneuvering with armed weapons while preparing to drop and/or fire on the target areas. This activity constitutes a hazard and must be conducted within restricted airspace.

Two commenters stated that there currently is not enough activity at Fort Sill to justify a need for additional restricted airspace.

Response: R-5601F would provide the maneuvering airspace needed to safely execute new high angle air-to-ground training requirements for Air Force, Navy, and Marine aircraft.

One commenter expressed a concern that the proposed R-5061F would “negatively impact general aviation by closing one of the last VFR corridors left in southern Oklahoma” and one other commenter stated that the proposed restricted area would restrict air tours over the Wichita Mountain National Wildlife Refuge and Lake Latonka.

Response: The FAA believes that the impact would be minimal because the Army plans to use the airspace less than 6 hours per day. Also, nonparticipating aircraft will have the opportunity to fly through the area when the airspace is not in use and may contact Fort Sill Approach for the status of R-5601F.

The Rule

The FAA is amending Title 14 Code of Federal Regulations (14 CFR) part 73 to establish R-5601F adjacent to and north of R-5601B and R-5601C. Establishment of the new restricted area will provide additional airspace needed to support new high angle air-to-ground training requirements for Air Force, Navy, and Marine aircraft operating over the Falcon Bombing Range and will enhance Fort Sill's ability to host joint training.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

On October 4, 2006, the FAA adopted the U.S. Army's Finding of No Significant Impact and Record of Decision for the establishment of R-5601F.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.56 [Amended]

2. § 73.56 is amended as follows:

* * * * *

R-5601F Fort Sill, OK [New]

Boundaries. Beginning at lat. 34°46′24″ N., long. 98°52′00″ W.; thence clockwise via the 49 NM arc of SPS VORTAC to lat. 34°47′00″ N., long. 98°51′00″ W.; to lat. 34°43′46″ N., long. 98°49′55″ W.; thence clockwise via the 46 NM arc of SPS VORTAC to lat. 34°45′03″ N., long. 98°29′46″ W.; to lat. 34°46′15″ N., long. 98°25′01″ W.; to lat. 34°47′00″ N., long. 98°17′46″ W.; to lat. 34°46′45″ N., long. 98°17′01″ W.; to lat. 34°46′06″ N., long. 98°17′01″ W.; to lat. 34°46′06″ N., long. 98°21′01″ W.; to lat. 34°43′45″ N., long. 98°21′01″ W.; to lat. 34°43′30″ N., long. 98°21′21″ W.; to lat. 34°43′30″ N., long. 98°35′40″ W.; to lat. 34°45′00″ N., long. 98°40′31″ W.; to lat. 34°42′15″ N., long. 98°50′01″ W.; to the point of beginning. Excluding that airspace: (1) below 5500 feet MSL beginning at lat. 34°44′28″ N., long. 98°46′16″ W.; thence clockwise via the 46 NM arc of SPS VORTAC to lat. 34°45′09″ N., long. 98°30′57″ W.; to lat. 34°43′30″ N., long. 98°30′00″ W.; to lat. 34°43′30″ N., long. 98°35′40″ W.; to lat. 34°45′00″ N., long. 98°40′31″ W.; to lat. 34°43′09″ N., long. 98°46′56″ W.; to the point of beginning; and, (2) below 3500 feet MSL within a 1 NM radius of lat. 34°46′46″ N., long. 98°17′46″ W.

Designated altitudes. 500 feet AGL to FL 400.

Times of Designation. Sunrise to 2200 local time, Monday-Friday; other times by NOTAM.

Controlling Agency. FAA, Fort Worth ARTCC.

Using Agency. Commanding General, United States Army Field Artillery Center (USAFACFS), Fort Sill, OK.

* * * * *

Issued in Washington, DC, December 14, 2006.
Paul Gallant,
Acting Manager, Airspace and Rules.

[FR Doc. E6-21725 Filed 12-19-06; 8:45 am]

BILLING CODE 4910-13-P